DEPARTMENT OF COMMERCE

National Oceanic and Atmospheric Administration

50 CFR Part 648

[Docket No. 060314069-6069-01]

RIN 0648-XA86

Magnuson-Stevens Fishery Conservation and Management Act Provisions; Fisheries of the Northeastern United States; Atlantic Sea Scallop Fishery; Closure of the Closed Area I Scallop Access Area to General Category Scallop Vessels

AGENCY: National Marine Fisheries Service (NMFS), National Oceanic and Atmospheric Administration (NOAA), Commerce.

ACTION: Temporary rule; closure.

SUMMARY: NMFS announces that the Closed Area I Scallop Access Area (CAI) will close to general category scallop vessels for the remainder of the 2007 scallop fishing year. This action is based on the determination that 216 general category scallop trips into CAI are projected to be taken as of 0001 hr local time, July 15, 2007. This action is being taken to prevent the allocation of general category trips in CAI from being exceeded during the 2007 fishing year, in accordance with the regulations implementing Framework 18 to the Atlantic Sea Scallop Fishery Management Plan (FMP) and the Magnuson-Stevens Fishery Conservation and Management Act.

DATES: The closure is effective from 0001 hours, July 15, 2007, through February 29, 2008.

FOR FURTHER INFORMATION CONTACT: Ryan Silva, Fishery Management Specialist, (978)-281-9326, fax (978)-281-9135.

SUPPLEMENTARY INFORMATION: Regulations governing fishing activity in the Sea Scallop Access Areas (§ 648.59 and 648.60) authorize vessels issued a valid general category scallop permit to fish in CAI under specific conditions, including a cap of 216 trips that may be taken by general category vessels during the 2007 fishing year. The regulations at § 648.59(b)(5)(ii) require CAI to be closed to general category scallop vessels once the Northeast Regional Administrator has determined that the allowed number of trips are projected to be taken.

Based on Vessel Monitoring System (VMS) trip declarations by general category scallop vessels fishing in CAI, and analysis of fishing effort, a projection concluded that, given current activity levels by general category scallop vessels in the area, the trip cap will be attained on July 15, 2007. Therefore, in accordance with the regulations at § 648.59(b)(5)(ii), CAI is closed to all general category scallop vessels as of 0001 hr local time, July 15, 2007. No general category scallop vessel may declare or initiate a trip into this area. This closure is in effect for the remainder of the 2007 scallop fishing year. CAI is scheduled to re-open to scallop fishing, including trips for general category scallop vessels, on June 15, 2008, unless the schedule for scallop access areas is modified by the New England Fishery Management Council.

Classification

This action is required by 50 CFR part 648 and is exempt from review under Executive Order 12866.

Due to the need to take immediate action to close CAI once the allowed number of trips have been taken, pursuant to 5 U.S.C. 553(b)(3) proposed rulemaking is waived because it would be impracticable and contrary to the public interest to allow a period for public comment. CAI opened for the 2007 fishing year at 0001 hours on June 15, 2007. Data indicating the general category scallop fleet has taken all of CAI trips have only recently become available. To allow general category scallop vessels to continue to take trips in CAI during the period necessary to publish and receive comments on a proposed rule would result in vessels taking much more than the allowed number of trips in CAI. Excessive trips and harvest from CAI would result in excessive fishing effort in CAI, where effort controls are critical, thereby undermining conservation objectives of the FMP. Should excessive effort occur in CAI, future management measures would need to be more restrictive. Furthermore, for the same reasons, there is good cause under 5 U.S.C 553(b)(3) to waive the 30-day delayed effectiveness period for this action.

Authority: 16 U.S.C. 1801 et seq.

Dated: July 13, 2007.
Emily Menashes,
Acting Director, Office of Sustainable Fisheries, National Marine Fisheries Service.

[FR Doc. 07-3499 Filed 7-13-07; 3:27 pm]

BILLING CODE 3510-22-S